DEPARTMENT OF AGRICULTURE

Farm Service Agency

Information Collection: Volunteer Programs

AGENCY: Farm Service Agency, USDA.

ACTION: Notice; request for comments.

SUMMARY: In accordance with the Paperwork Reduction Act of 1995, the Farm Service Agency (FSA) is seeking comments from all interested individuals and organizations on an extension of a currently approved information collection associated with the Volunteer Programs.

DATES: We will consider comment that we received by July 22, 2011.

ADDRESSES: We invite you to submit comments on this notice. In your comment, include volume, date and page number of this issue of the Federal Register. You may submit comments by any of the following methods:

E-mail: Send comments to: Janice.Barnes@wdc.usdc.gov.

Fax: (202) 205-9068.

Mail: Ms. Janice Barnes, USDA, FSA, Human Resources Division, PAB—Stop 0590, 1400 Independence Ave., SW., Washington, DC 20250-0590.

Comments also should be sent to the Desk Officer for Agriculture, Office of Information and Regulatory Affairs, Office of Management and Budget, Washington, DC 20503.

FOR FURTHER INFORMATION CONTACT: Ms. Janice Barnes, Human Resources Specialist, phone: (202) 401-0391.

SUPPLEMENTARY INFORMATION:

Title: Volunteer Programs.

OMB Control Number: 0560-0232.

Expiration Date for Approval: October 31, 2011.

Type of Request: Extension of a Currently Approved Information Collection.

Abstract: Section 1526 of the Food and Agriculture Act of 1981 (7 U.S.C. 2272) permits the Secretary of Agriculture to establish a program to use volunteers to perform a wide range of activities to carry out the programs of, or supported by the Department of Agriculture. 5 U.S.C. 3111 grants agencies the authority to establish programs designed to provide educationally related work assignments for students in non-pay status. The volunteer program will provide a valuable service to the Farm Service Agency (FSA).

In FSA volunteer program, each individual must follow the same responsibilities and guidelines to conduct to which Federal Government employees are expected to follow. The individuals, who are mainly students participating in the sponsored volunteer program, must complete the “Service Agreement and Attendance Records,” and other forms, with providing required supporting documents. The collected information is to allow FSA to effectively recruit, train, and accept volunteers to carry out programs supported by the Department of Agriculture.

Without the collected information, FSA would be unable to document services without compensation in the program. FSA is reporting the collected information to the Department of Agriculture and the Office of Personnel Management that request information on volunteer programs.

Estimate of Burden: The recordkeeping requirements in this request are normal business records and, therefore, have no burden. Public reporting burden for this information collection is estimated to average 15 minutes per response. The average travel time, which is included in the total annual burden, is estimated to be 1 hour per respondent.

Type of Respondents: Individuals.

Estimated Number of Respondents: 60.

Estimated Number of Responses per Respondent: 1.33.

Estimated Total Annual Reponses: 80.

Estimated Total Annual Burden Hours: 30 hours.

We are requesting comments on all aspects of this information collection to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments in response to this notice, including names and addresses when provided, will be a matter of public record. Comments will be summarized and included in the request for OMB approval.

Signed in Washington, DC, on May 17, 2011.
Carolyn B. Cooksie,
Acting Administrator, Farm Service Agency.

[FR Doc. 2011-12521 Filed 5-20-11; 8:45 am]

BILLING CODE 3410-05-P